DEPARTMENT OF HEALTH AND HUMAN SERVICES

Administration for Children and Families

Office of Planning, Research and Evaluation; Grant to the Institute for American Values

AGENCY: Office of Planning, Research and Evaluation, ACF, HHS.

ACTION: Award announcement.

C.F.D.A. Number: 93.647.

SUMMARY: Notice is hereby given that the Office of Planning, Research and Evaluation will award grant funds without competition to the Institute for American Values. This grant is being awarded for an unsolicited proposal entitled, “Gendered Parenting and Its Implications for Child Well-Being and Couple Relationships,” that conforms to the applicable program objectives, is within the legislative authorities and proposes activities that may be lawfully supported through grant mechanisms. The study is unique and relevant to ACF's interest in increasing child well-being and supporting healthy marriage. The resulting products can be expected to benefit policymakers and others interested in family policy.

The Institute for American Values is a nonprofit, nonpartisan research and education organization conducting interdisciplinary research concerning issues of civil society.

The grant will support an 18-month project at a cost of $96,000 in Federal support. The project is also being supported through non-Federal funding sources.

FOR FURTHER INFORMATION CONTACT: Richard Jakopic, Office of Planning, Research and Evaluation, Administration for Children and Families, 370 L'Enfant Promenade, SW., Washington, DC 20447; phone: 202-205-5930.

Dated: August 25, 2006.
Naomi Goldstein,
Director, Office of Planning, Research and Evaluation.

[FR Doc. 06-7367 Filed 8-30-06; 8:45 am]

BILLING CODE 4184-01-P